DEPARTMENT OF THE INTERIOR

National Park Service

[NPS-WASO-NAGPRA-20042]

Notice of Inventory Completion: San Diego Museum of Man, San Diego, CA

AGENCY: National Park Service, Interior.

ACTION: Notice.

SUMMARY: The San Diego Museum of Man has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit written request to the San Diego Museum of Man. If no additional requestors come forward, transfer of control of the human remains and associated funerary objects to the lineal descendants, Indian tribes, or Native Hawaiian organization stated in this notice may proceed.

DATES: Lineal descendants or representatives of any Indian tribe or native Hawaiian organization not identified in this notice that wish to request transfer of control of these human remains and associated funerary objects should submit a written request with information in support of the request to the San Diego Museum of Man at the address in this notice by February 26, 2016.

ADDRESSES: Ben Garcia, Deputy Director, San Diego Museum of Man, 1350 El Prado, San Diego, CA 92101, telephone (619) 239-2001 ext. 17, email bgarcia@museumofman.org.

SUPPLEMENTARY INFORMATION: Notice is here given in accordance with the Native American Graves Protection and Repatriation Act (NAGPRA), 25 U.S.C 3003, of the completion of an inventory of human remains and associated funerary objects under the control of the San Diego Museum of Man, San Diego, CA. The human remains and associated funerary objects were removed from various locations in the La Jolla area of San Diego, San Diego County, CA.

This notice is published as part of the National Park Service's administrative responsibilities under NAGPRA, 25 U.S.C 3003(d)(3). The determinations in this notice are the sole responsibility of the museum, institution, or Federal agency that has control of the Native American human remains and associated funerary objects. The National Park Service is not responsible for the determinations in this notice.

Consultation

A detailed assessment of the human remains and associated funerary objects was made by the San Diego Museum of Man professional staff in consultation with representatives of the Campo Band of Diegueno Mission Indians of the Campo Indian Reservation, California; Capitan Grande Band of Diegueno Mission Indians of California: (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Indian Reservation, California; San Pasqual Band of Diegueno Mission Indians of California; and the Sycuan Band of the Kumeyaay Nation, hereafter referred to as “The Tribes.”

History and Description of the Human Remains and Associated Funerary Objects

Between 1925 and 1929, human remains representing, at minimum, 15 individuals were recovered by Malcom J. Rogers from CA-SDI-39 and CA-SDI-18307 (W-1 and W-2). At an unknown date prior to 1941, Rogers transferred this collection to the San Diego Museum of Man. No known individuals were identified. The 3 associated funerary objects are 1 lot of 11 faunal remains and 2 olivella shell beads.

In 1971, human remains representing, at minimum, 1 individual were recovered in a salvage operation from CA-SDI-18307 (W-2). This individual was collected by Rose Tyson on behalf of the San Diego Museum of Man. No known individuals were identified. No associated funerary objects are present.

Between 1929 to 1945, human remains representing, at minimum, 3 individuals were recovered from CA-SDI-4670 (W-5) by Malcolm J. Rogers on behalf of the San Diego Museum of Man as a part of salvage archeology operations. The 4 associated funerary objects are 1 metate, 1 mano, 1 scraper/plane, and 1 lot of olivella shell beads.

On an unknown date, human remains representing, at minimum, 1 individual were removed from an unknown location. These human remains lack specific information on the date of collection/donation, name of the collector, or collection documentation beyond their association with CA-SDI-4670 (W-5). No known individuals were identified. The 2 associated funerary objects are 1 stone fragment and 1 shell.

In 1943, human remains representing, at minimum, 32 individuals were recovered from CA-SDI-525 (W-9) by Malcolm J. Rogers on behalf of the San Diego Museum of Man as a part of salvage archeology operations conducted during World War II Army construction. No known individuals were identified. The 12 associated funerary objects include 3 utilized flakes, 4 olivella shell beads, 2 olivella shells, 1 lot of olivella shell beads, 1 core tool, and 1 protothaca shell.

Between 1958 and 1959, human remains representing, at minimum, 2 individuals were collected from CA-SDI-525 (W-9) by Carl L. Hubbs, G. Shumway, J. Moriarity, and C. Warren during the home construction of two Scripps Estate Association Lots. In 1972, these remains were donated to the San Diego Museum of Man by Carl Hubbs. No known individuals were identified. No associated funerary objects are present.

Between 1929 and 1952, human remains representing, at minimum, 8 individuals were recovered from CA-SDI-4669 (W-12) by Malcolm J. Rogers during numerous recoveries due to construction on the William H. Black Estate. These collections were either recovered on behalf of the San Diego Museum of Man or transferred by Rogers to the Museum of Man prior to 1953. No known individuals were identified. The 5 associated funerary objects are 4 metates and 1 mano.

In 1948, human remains representing, at minimum, 3 individuals were collected from CA-SDI-4669 (W-12) during San Diego Museum of Man field work. No known individuals were identified. The 55 associated funerary objects are 4 battered stones, 4 utilized flakes, 6 stones, 1 core tools, 2 bone awls, 1 ring stone, 24 flakes, and 13 shells.

In 1950, human remains representing, at minimum, 1 individual were collected from CA-SDI-4669 (W-12) by Carr Tuthill on behalf of the San Diego Museum of Man due to construction on the William H. Black Estate. No known individuals were identified. The 1 associated funerary object is 1 lot of stone beads.

These five sites were originally identified by Malcolm J. Rogers and designated as: W-1 (CA-SDI-39) and W-2 (CA-SDI-18307), known as the Spindrift/La Jolla Shores sites; W-5 (CA-SDI-4670) known as the Middle Midden; W-9 (CA-SDI-525), later named the Cemetery; and W-12 (CA-SDI-4669) known as Skeleton Hill. Excavations from these sites were conducted by Rogers, as well as other individuals, including San Diego Museum of Man staff. Many of these excavations occurred while Rogers was employed by the San Diego Museum of Man. These five sites are all located within well-known and documented aboriginal territories of the Kumeyaay Nation. Based on archeological evidence, geographic location, ethnographic information, and oral history evidence, these remains have been identified as Native American.

Determinations Made by the San Diego Museum of Man

Officials of the San Diego Museum of Man have determined that:

• Pursuant to 25 U.S.C. 3001(9), the human remains described in this notice represent the physical remains of 66 individuals of Native American ancestry.

• Pursuant to 25 U.S.C. 3001(3)(A), the 82 associated funerary objects described in this notice are reasonably believed to have been placed with or near individual human remains at time of death or later as part of the death rite or ceremony.

• Pursuant to 25 U.S.C. 3001(2), there is a relationship of shared group identity that can be reasonably traced between the Native American human remains and associated funerary objects and the Kumeyaay Nation, as represented by The Tribes.

Additional Requestors and Disposition

Lineal descendants and representatives of any Indian tribe or Native Hawaiian organization not identified in this notice that wish to request transfer of control of these human remains and associated funerary objects should submit a written request with information in support of the request to Ben Garcia, Deputy Director, San Diego Museum of Man, 1350 El Prado, San Diego, CA 92101, telephone (619) 239-2001 ext. 17, email bgarcia@museumofman.org, February 26, 2016. After that date, if no additional requestors have come forward, transfer of control of the human remains and associated funerary objects to The Tribes may proceed.

The San Diego Museum of Man is responsible for notifying The Tribes that this notice has been published.

Dated: December 29, 2015.
Amberleigh Malone,
Acting Manager, National NAGPRA Program.

[FR Doc. 2016-01588 Filed 1-26-16; 8:45 am]

BILLING CODE 4312-50-P